DEPARTMENT OF TRANSPORTATION

Federal Aviation Administration

Notice of Availability of Draft Environmental Impact Statement; Piedmont Triad International Airport, Greensboro, NC

SUMMARY: Pursuant to Section 102(2)(C) of the National Environmental Policy Act (NEPA) of 1969, as amended, as implemented by the Council on Environmental Quality (40 CFR Parts 1500-1508), the Federal Aviation Administration (FAA) will file with the Environmental Protection Agency, and make available to other government and interested private parties, the Draft Environmental Impact Statement (DEIS) for the proposed Runway 5L/23R, a proposed air cargo sorting and distribution facility (FedEx Mid Atlantic Hub), and associated development at Piedmont Triad International Airport, Greensboro, North Carolina. The DEIS will be on file with the EPA and available to the public for review starting April 6, 2000, after 1 p.m. at locations listed under SUPPLEMENTARY INFORMATION. A Public Hearing and Information Workshop will be held on May 23, 2000; between the hours of 5:00 p.m. and 8:00 p.m. at the Greensboro Coliseum Exhibit Hall, 1921 W. Lee Street, Greensboro, North Carolina. Written comments on the DEIS will be accepted by the FAA until June 7, 2000, or 45 days after the publication of this Federal Register Notice, whichever is later.

FOR FURTHER INFORMATION CONTACT: Ms. Donna M. Meyer, Environmental Program Specialist, Federal Aviation Administration, Atlanta Airports District Office, 1701 Columbia Avenue, Suite 2-260, College Park, Georgia 30337-2747, Phone (404) 305-7150.

SUPPLEMENTARY INFORMATION: The Piedmont Triad Airport Authority (PTAA), owner and operator of the airport is proposing airside and landside improvements to the Piedmont Triad International Airport. The PTAA's proposed project consists of a new widely spaced Transport Category parallel runway (Runway 5L/23R) that would be 9,000 feet long and 150 feet wide. The runway would be located on the western side of the airport. Other associated projects include the development and operation of an air cargo sorting and distribution facility (FedEx Mid-Atlantic Hub), surface transportation improvements, NAVAIDS for new Runway 5L/23R, property acquisition and relocation of several airport tenant operations. The DEIS has examined the sponsor's proposed project and improvements along with other reasonable alternatives to the proposed project. The Federal Highway Administration (FHWA) is acting as a cooperating agency to the FAA in this DEIS.

A Public Hearing will be held by the FAA to afford interested parties the opportunity to provide their comments on the merits and findings of the DEIS and to consider the economic, social, and environmental effects of PTAA's proposed development and its consistency with the goals and objectives of such urban planning as has been carried out by the community. The Public Hearing will be conducted in conjunction with an informal Information Workshop. During the Information Workshop, participants will be able to view project related materials and speak with representatives of the FAA and the consulting team.

In addition, the public is invited to comment in one of four ways during the Public Hearing/Information Workshop: (1) Written comments may be submitted anytime during the Hearing/Workshop; (2) Pre-addressed written comment forms may be mailed to the Individual listed above, (3) Private oral comments may be given to a certified court reporter anytime during the Hearing/Workshop, and, (4) Oral comments may be made in front of the Hearing Officer who will be present to preside over and conduct the Public Hearing. The FAA encourages interested parties to review the DEIS and provide comments during the public comment period.

For the convenience of interested parties, the DEIS may be reviewed at the following locations:

Greensboro Public Library, 219 No. Church Street, Greensboro

Hege Library of Guilford College, 5800 West Friendly Avenue, Greensboro

High Point Public Library, 901 North Main Street, High Point

Forsyth County Library, 660 West Fifth Street, Winston-Salem

Piedmont Triad International Airport, 6415 Airport Parkway, Greensboro

Federal Aviation Administration, Atlanta District Office, 1701 Columbia Avenue, College Park, Georgia

Dated: Issued in Atlanta, Georgia, March 31, 2000.
Scott L. Seritt,
Manager, Atlanta Airports District Office.

[FR Doc. 00-8383 Filed 4-4-00; 8:45 am]

BILLING CODE 4910-13-M